AGENCY FOR INTERNATIONAL DEVELOPMENT

Board for International Food and Agricultural Development One Hundred and Thirty Eighth Meeting; Notice of Meeting

Pursuant to the Federal Advisory Committee Act, notice is hereby given of the one hundred and thirty-eighth meeting of the Board for International Food and Agricultural Development (BIFAD). The meeting will be held from 8 a.m. to 1 p.m. on June 18, 2003 in the ground floor meeting room of the National Association of State Universities & Land Grant Colleges (NASULGC), at 1307 New York Avenue, NW., Washington, DC.

The BIFAD at this meeting will hear a report and consider recommendations from SPARE (Strategic Partnership for Agricultural Research & Education, a BIFAD committee), following SPARE-led agricultural sub-sector reviews; it will hear a report on USAID-university relationships (a BIFAD-commissioned study); and receive an update on the implementation of the BIFAD Long-Term Training initiative.

The meeting is free and open to the public. Those wishing to attend the meeting or obtain additional information about BIFAD should contact Mr. Lawrence Paulson, the Designated Federal Officer for BIFAD. Write him in care of the U.S. Agency for International Development, Ronald Reagan Building, Office of Agriculture and Food Security, 1300 Pennsylvania Avenue, NW., Room 2.11-073, Washington, DC, 20523-2110 or telephone him at (202) 712-1436 or fax (202) 216-3010.

Lawrence Paulson,
USAID Designated Federal Officer for BIFAD, Office of Agriculture and Food Security, Bureau for Economic Growth, Agriculture & Trade.

[FR Doc. 03-13284 Filed 5-28-03; 8:45 am]

BILLING CODE 6116-01-P